DEPARTMENT OF THE INTERIOR

National Park Service

[NPS-WASO-NAGPRA-NPS0030226; PPWOCRADN0-PCU00RP14.R50000]

Notice of Inventory Completion: Ball State University, Department of Anthropology, Muncie, IN

AGENCY: National Park Service, Interior.

ACTION: Notice.

SUMMARY: The Ball State University, Department of Anthropology has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Ball State University, Department of Anthropology. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Ball State University, Department of Anthropology at the address in this notice by June 29, 2020.

ADDRESSES: Kevin C. Nolan, Ball State University, Applied Anthropology Laboratories, 2000 University Avenue, Muncie, IN 47306, telephone (765) 285-5325, email kcnolan@bsu.edu.

SUPPLEMENTARY INFORMATION: Notice is here given in accordance with the Native American Graves Protection and Repatriation Act (NAGPRA), 25 U.S.C. 3003, of the completion of an inventory of human remains and associated funerary objects under the control of the Ball State University, Department of Anthropology, Muncie, IN. The human remains and associated funerary objects were removed from site 12-St-214 in Starke County, IN, an unknown location near Knox in Stark County, IN, and site 12-Le-22, the Alt Site, in La Porte County, IN.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Ball State University, Department of Anthropology professional staff in consultation with representatives of the Citizen Potawatomi Nation, Oklahoma; Delaware Nation, Oklahoma; Eastern Band of Cherokee Indians; Eastern Shawnee Tribe of Oklahoma; Hannahville Indian Community, Michigan; Miami Tribe of Oklahoma; and the Pokagon Band of Potawatomi Indians, Michigan and Indiana.

The Absentee Shawnee Tribe of Indians of Oklahoma; Bad River Band of the Lake Superior Tribe of Chippewa Indians of the Bad River Reservation, Wisconsin: Bay Mills Indian Community, Michigan; Cherokee Nation; Chippewa Cree Indians of the Rocky Boy's Reservation, Montana (previously listed as Chippewa-Cree Indians of the Rocky Boy's Reservation, Montana); Delaware Tribe of Indians; Forest County Potawatomi Community, Wisconsin; Grand Traverse Band of Ottawa and Chippewa Indians, Michigan; Kaw Nation, Oklahoma; Keweenaw Bay Indian Community, Michigan; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Match-e-be-nash-she-wish Band of Pottawatomi Indians of Michigan; Minnesota Chippewa Tribe, Minnesota (Six component reservations: Bois Forte Band (Nett Lake); Fond du Lac Band; Grand Portage Band; Leech Lake Band; Mille Lacs Band; White Earth Band); Nottawaseppi Huron Band of the Potawatomi, Michigan (previously listed as Huron Potawatomi, Inc.); Omaha Tribe of Nebraska; Ottawa Tribe of Oklahoma; Peoria Tribe of Indians of Oklahoma; Ponca Tribe of Indians of Oklahoma; Ponca Tribe of Nebraska; Prairie Band Potawatomi Nation (previously listed as Prairie Band of Potawatomi Nation, Kansas); Quapaw Nation (previously listed as The Quapaw Tribe of Indians); Quechan Tribe of the Fort Yuma Indian Reservation, California & Arizona; Red Cliff Band of Lake Superior Chippewa Indians of Wisconsin; Red Lake Band of Chippewa Indians, Minnesota; Sac & Fox Nation of Missouri in Kansas and Nebraska; Sac & Fox Nation, Oklahoma; Sac & Fox Tribe of the Mississippi in Iowa; Saginaw Chippewa Indian Tribe of Michigan; Sault Ste. Marie Tribe of Chippewa Indians, Michigan; Seneca Nation of Indians (previously listed as Seneca Nation of New York); Seneca-Cayuga Nation (previously listed as Seneca-Cayuga Tribe of Oklahoma); Shawnee Tribe; Sokaogon Chippewa Community, Wisconsin; St. Croix Chippewa Indians of Wisconsin; Stockbridge Munsee Community, Wisconsin; The Osage Nation (previously listed as Osage Tribe); Tonawanda Band of Seneca (previously listed as Tonawanda Band of Seneca Indians of New York); Turtle Mountain Band of Chippewa Indians of North Dakota; Tuscarora Nation; United Keetoowah Band of Cherokee Indians in Oklahoma; and the Wyandotte Nation were invited to consult but did not participate.

Hereafter, all Tribes named in this section are referred to as “The Consulted and Invited Tribes.”

History and Description of the Remains

In 1986, the human remains of, at minimum, one individual were removed from site 12-St-214 in Starke County, IN, during a Phase Ia pedestrian survey by Ball State University for the Michigan Precision Industries project. The site consisted primarily of fire-cracked rock (FCR), but also included lithic debitage. A total of 72 fragments of scattered cremated cranial and post-cranial bones belonging to an individual of unknown age and sex were recovered during the survey (catalogue #12-St-214-25). In 1996, the human remains of a second individual were recovered from the site by Ball State University during work that included intensive surface collection, two test excavation units, and 11 trenches. The human remains consist of one fragment of calcined human humerus (catalogue #96.31.1.1.152). A test unit excavated at the location of the human remains did not yield any additional cultural materials or human remains. In 1999, a private collector donated the human remains of two additional individuals to the BSU Department of Anthropology (accession #99.45). According to the donor, one individual was collected from site 12-St-214 (catalogue #99.45.1) and the other was collected from a site north of Knox, IN, (catalogue #99.45.2). No known individuals were identified. The 428 associated funerary objects are six bifaces, 305 pieces of lithic debitage, six cores, three endscrapers, two gravers, eight other chipped stone, 11 slate, 46 bones, one drilled shell, two shell fragments, 37 sherds, and one mortar.

In 1978 and 1980, the human remains of, at minimum, 18 individuals were collected from site 12-Le-22, the Alt Site, in La Porte County, IN, during investigations by the Northwest Indiana Archaeological Association (NWIAA) together with archeologists from the University of Notre Dame (1978), and by the Indiana Department of Natural Resources, Division of Historic Preservation (1980). The human remains were donated to Ball State University in 1988 (accession number 88.025). Samples from select burials were included in an analysis of ancient DNA as part of a MA thesis presented to the Department of Anthropology, Ball State University. Five bone samples were tested in 1994 and 1995, but none yielded extractable DNA. No known individuals were identified. No associated funerary objects are present (artifacts are known to have been recovered during the 1978 and 1980 investigations, as well as by private collectors).

Determinations Made by the Ball State University, Department of Anthropology

Officials of the Ball State University, Department of Anthropology have determined that:

• Pursuant to 25 U.S.C. 3001(9), the human remains described in this notice are Native American based on the fact that they are associated prehistoric artifacts and animal bone.

• Pursuant to 25 U.S.C. 3001(9), the human remains described in this notice represent the physical remains of 22 individuals of Native American ancestry.

• Pursuant to 25 U.S.C. 3001(3)(A), the 428 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Citizen Potawatomi Nation, Oklahoma; Forest County Potawatomi Community, Wisconsin; Hannahville Indian Community, Michigan; Match-e-be-nash-she-wish Band of Pottawatomi Indians of Michigan; Nottawaseppi Huron Band of the Potawatomi, Michigan (previously listed as Huron Potawatomi, Inc.); Pokagon Band of Potawatomi Indians, Michigan and Indiana; and the Prairie Band Potawatomi Nation (previously listed as Prairie Band of Potawatomi Nation, Kansas)(hereafter referred to as “The Tribes”).

• Pursuant to 43 CFR 10.11(c)(1), the disposition of the human remains and associated funerary objects may be to The Tribes.

Additional Requestors and Disposition

Representatives of any Indian Tribe or Native Hawaiian organization not identified in this notice that wish to request transfer of control of these human remains and associated funerary objects should submit a written request with information in support of the request to Kevin C. Nolan, Ball State University, Applied Anthropology Laboratories, 2000 University Avenue, Muncie, IN 47306, telephone (765) 285-5325, email kcnolan@bsu.edu, by June 29, 2020. After that date, if no additional requestors have come forward, transfer of control of the human remains and associated funerary objects to The Tribes may proceed.

The Ball State University, Department of Anthropology is responsible for notifying The Consulted and Invited Tribes that this notice has been published.

Dated: April 21, 2020.
Melanie O'Brien,
Manager, National NAGPRA Program.

[FR Doc. 2020-11569 Filed 5-28-20; 8:45 am]

BILLING CODE 4312-52-P